DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate—rescheduled public meeting.

SUMMARY: The NOAA Office of Ocean and Coastal Resource Management (OCRM) announces a revised time and location for a public meeting previously included in an announcement of intent to evaluate the performance of the Puerto Rico Coastal Management Program. Notice was previously given in the Federal Register on March 9, 2005, of the date of the site visit for the evaluation of the Puerto Rico Coastal Management Program and the date, local time, and location of the public meeting. Notice is hereby given of the revised local time and revised location of the public meeting during the site visit.

The Puerto Rico Coastal Management Program evaluation site visit will be held June 20-24, 2005. One public meeting will be held during the week. The public meeting will be held on Wednesday, June 22, 2005, at 6 p.m. at the Puerto Rico Environmental Agencies Building, Road 8838, Km 6.3, Sector El Cinco, Rio Piedras, Puerto Rico.

FOR FURTHER INFORMATION CONTACT: Ralph Cantral, Chief, National Policy and Evaluation Division, Office of Ocean and Coastal Resource Management, NOS/NOAA, 1305 East-West Highway, 10th Floor, Silver Spring, Maryland 20910, (301) 713-3155, extension 118.

Federal Domestic Assistance Catalog 11.419.

Coastal Zone Management Program Administration.

Dated: May 24, 2005.
Mitchell Luxenberg,
Acting Director, Management and Budget, National Ocean Service, National Oceanic and Atmospheric Administration.

[FR Doc. 05-10985 Filed 6-1-05; 8:45 am]

BILLING CODE 3510-08-P